DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Western Alaska Community Development Quota Program.

OMB Control Number: 0648-0269.

Form Number(s): NA.

Type of Request: Regular submission (extension of a currently approved collection).

Number of Respondents: 93.

Average Hours per Response: Community development plan, 520 hours; annual budget report, 20 hours; annual budget reconciliation reports and technical amendments, 8 hours; substantial amendments, 40 hours; community development quota (CDQ) or prohibited species quota (PSQ) transfer requests, 15 minutes; alternate fishing plans, 4 hours; prior notices to observers, 2 minutes.

Burden Hours: 2,193.

Needs and Uses: The CDQ Program is an economic development program associated with federally-managed fisheries in the Bering Sea and Aleutian Islands Management Area (BSAI), as part of a fishery management plan developed by the North Pacific Fishery Management Council, under the authorization of the Magnuson-Stevens Fishery Conservation and Management Act. The purposes of the CDQ Program are to provide western Alaska communities the opportunity to participate and invest in BSAI fisheries, to support economic development in western Alaska, to alleviate poverty and provide economic and social benefits for residents of western Alaska, and to achieve sustainable and diversified local economies in western Alaska.

CDQ and PSQ allocations are made to CDQ groups. However, in many cases the CDQ groups contract with existing fishing vessels and processors to harvest CDQ on their behalf. The CDQ group is responsible to monitor the catch of CDQ and PSQ by all vessels fishing under its Community Development Plan and to take the necessary action to prevent overages. The National Marine Fisheries Service monitors the reported catch to assure that quotas are not being exceeded.

Affected Public: Not-for-profit institutions.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 2, 2010.
Gwellnar Banks,
Management Analyst, Office of the Chief Information Officer.

[FR Doc. 2010-19249 Filed 8-4-10; 8:45 am]

BILLING CODE 3510-22-P